DEPARTMENT OF DEFENSE

Office of the Secretary

[Docket ID DoD-2014-HA-0086]

Submission for OMB Review; Comment Request

ACTION: Notice.

SUMMARY: The Department of Defense has submitted to OMB for clearance, the following proposal for collection of information under the provisions of the Paperwork Reduction Act.

DATES: Consideration will be given to all comments received by August 27, 2015.

FOR FURTHER INFORMATION CONTACT: Fred Licari, 571-372-0493.

SUPPLEMENTARY INFORMATION:

Title, Associated Form and OMB Number: DoD Patient Safety Survey; OMB Control Number 0720-0034.

Type of Request: Reinstatement.

Number of Respondents: 14,022.

Responses per Respondent: 1.

Annual Responses: 14,022.

Average Burden per Response: 10 minutes.

Annual Burden Hours: 2,337.

Needs and Uses: The DoD Patient Safety Culture Survey will be critical to evaluate and better assess the needs of MHS facilities to promote patient safety culture. Survey results will be prepared at the facility and Service levels, as well as MHS overall. Facilities will benefit by being given the opportunity to receive feedback about their staff's responses to the survey, which will provide insight into their strengths and areas for improvements the survey will provide an overview of the status of Service and MHS patient safety to higher leadership, who can then appropriately allocate the necessary resources and tools to decrease medical errors and improve safety.

Affected Public: Federal Government; individuals or households.

Frequency: On occasion.

Respondent's Obligation: Voluntary.

OMB Desk Officer: Mr. Josh Brammer.

Written comments and recommendations on the proposed information collection should be emailed to Mr. Josh Brammer, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 02G09, Alexandria, VA 22350-3100.

Dated: July 22, 2015.
Aaron Siegel,
Alternate OSD Federal Register Liaison Officer, Department of Defense.

[FR Doc. 2015-18401 Filed 7-27-15; 8:45 am]

BILLING CODE 5001-06-P